DEPARTMENT OF HOUSING AND URBAN DEVELOPMENT

[Docket No. FR-4837-D-27]

Supersedure and Redelegations of Authority for the Civil Rights Related Program Requirements of HUD Programs

AGENCY: Office of the Assistant Secretary for Fair Housing and Equal Opportunity, HUD.

ACTION: Notice of supersedure and redelegation of authority.

SUMMARY: In this notice, the Assistant Secretary for Fair Housing and Equal Opportunity (FHEO) and the General Deputy Assistant Secretary for FHEO redelegate the authority regarding civil rights related program requirements of HUD programs to FHEO staff. This notice supersedes all prior redelegations of this authority made within the Office of the Assistant Secretary for FHEO.

EFFECTIVE DATE: July 25, 2003.

FOR FURTHER INFORMATION CONTACT: Pamela D. Walsh, Director of Program Standards Division, Office of Fair Housing and Equal Opportunity, Room 5224, Department of Housing and Urban Development, 451 Seventh Street, SW., Washington, DC 20410-2000, telephone (202) 708-2288. (This is not a toll-free number.) Hearing- and speech-impaired individuals may access this number through TTY by calling the toll-free Federal Information Relay Service number at 1-800-877-8339.

SUPPLEMENTARY INFORMATION: In a notice published on March 16, 1995 (60 FR 14294), HUD issued delegations and redelegations regarding civil rights related program requirements of HUD programs. In that notice, HUD officials redelegated this authority to the Directors of the Program Operations and Compliance Centers (POCCs). However, FHEO has since been restructured and the position of POCC Director was eliminated. Through this notice, the Assistant Secretary for FHEO and the General Deputy Assistant Secretary for FHEO redelegate this authority to certain FHEO staff and to the FHEO Hub Directors.

Accordingly, the Assistant Secretary for FHEO and the General Deputy Assistant Secretary for FHEO redelegate authority as follows:

Section A. Authority Redelegated

The Assistant Secretary for FHEO redelegates to the General Deputy Assistant Secretary for FHEO the authority regarding civil rights related program requirements of HUD programs. The General Deputy Assistant Secretary for FHEO redelegates this authority to the Deputy Assistant Secretary for Enforcement and Programs, to the Director of the Office of Programs, and to the FHEO Hub Directors.

Section B. Authority Excepted

The authority redelegated in this notice does not include the authority to issue or to waive regulations.

Section C. Authority To Redelegate

The authority redelegated to the Deputy Assistant Secretary for Enforcement and Programs, to the Director of the Office of Programs, and to the FHEO Hub Directors may not be further redelegated.

Section D. Authority Superseded

All prior redelegations of authority regarding civil rights-related program requirements of HUD programs made within the office of the Assistant Secretary for FHEO to the Directors of POCCs are superseded, including a redelegation published on March 16, 1995 (60 FR 14294).

Authority: Section 7(d) of the Department of Housing and Urban Development (42 U.S.C. 3535(d)).

Dated: July 25, 2003.
Carolyn Y. Peoples,
Assistant Secretary for Fair Housing and Equal Opportunity.
Floyd O. May,
General Deputy Assistant Secretary for Fair Housing and Equal Opportunity.

[FR Doc. 03-19782 Filed 8-1-03; 8:45 am]

BILLING CODE 4210-28-P